DEPARTMENT OF DEFENSE

Department of the Air Force

Record of Decision for the Supplemental Environmental Impact Statement Tinian Divert Infrastructure Improvements Commonwealth Northern Marianas Islands

ACTION: Notice of availability of record of decision.

SUMMARY: On December 15, 2022, the Department of the Air Force (DAF) signed the Record of Decision (ROD) for the Tinian Divert Infrastructure Improvements Commonwealth Northern Marianas Islands Final Supplemental Environmental Impact Statement.

ADDRESSES: Mr. Erik Waldrip, AFCEC/CZN, Building 1 Bay 8 Room 8009, 3515 S General McMullen, San Antonio, TX 78226-1710, (210) 925-3001; erik.waldrip@us.af.mil.

SUPPLEMENTARY INFORMATION: The DAF has selected the East underground fuel pipeline alternative and the roadway improvements alternative.

The DAF decision documented in the ROD was based on matters discussed in the Final Supplemental Environmental Impact Statement, inputs from the public and regulatory agencies, and other relevant factors. The Final Supplemental Environmental Impact Statement was made available to the public on July 17, 2020 through a Notice of Availability in the Federal Register (Volume 85, Number 138, Page 43580) with a waiting period that ended on August 18, 2020.

Authority: This Notice of Availability is published pursuant to the regulations (40 CFR part 1506.6) implementing the provisions of the National Environmental Policy Act (42 U.S.C. 4321, et seq.) and the Air Force's Environmental Impact Analysis Process (32 CFR parts 989.21(b) and 989.24(b)(7)).

Tommy W. Lee,
Acting Air Force Federal Register Liaison Officer.

[FR Doc. 2023-02864 Filed 2-9-23; 8:45 am]

BILLING CODE 5001-10-P